DEPARTMENT OF AGRICULTURE

Agricultural Marketing Service

[Docket No. FV-00-302]

Notice of Request for Extension of a Currently Approved Information Collection

AGENCY: Agricultural Marketing Service, USDA.

ACTION: Notice and request for comments.

SUMMARY: In accordance with the Paperwork Reduction Act of 1995 (44 U.S.C. chapter 35), this notice announces the Agricultural Marketing Service's (AMS) intention to request an extension to a currently approved information collection for Regulations Governing Inspection, Certification and Standards For Fresh Fruits, Vegetables, and Other Products.

DATES: Comments on this notice must be received on or before July 7, 2000, to be assured of consideration.

ADDITIONAL INFORMATION OR COMMENTS:

Contact Donald T. Paradis, Head, Field Operations Section, Fresh Products Branch, Fruit and Vegetable Programs, Agricultural Marketing Service, U.S. Department of Agriculture, Room 2049-South Building, 1400 Independence Avenue, SW., Washington, DC 20250, Phone: 202-720-2482, FAX: 202-720-0393.

SUPPLEMENTARY INFORMATION: Title: Regulations Governing Inspection, Certification and Standards For Fresh Fruits, Vegetables, and Other Products—7 CFR part 51.

OMB Number: 0581-0125.

Expiration Date of Approval: November 30, 2000.

Type of Request: Extension of a currently approved information collection.

Abstract: The Fresh Products Branch provides a nationwide inspection and grading service for fresh fruits, vegetables, and other products to shippers, importers, processors, sellers, buyers and other financially interested parties on a “user-fee” basis. The use of this service is voluntary and is made available only upon request or when specified by some special program or contract. Information is needed to carry out the inspection and grading services. Such information includes: the name and location of the person or company requesting the inspection, the type and location of the product to be inspected, the type of inspection being requested and any information that will identify the product.

Estimate of Burden: Public reporting burden for this collection of information is estimated to average .0302205 hours per response.

Respondents: Shippers, importers, processors, sellers, buyers and others with a financial interest in lots of fresh fruits, vegetables and other products.

Estimated Number of Respondents: 51,800.

Estimated Number of Responses per Respondent: 4.09857.

Estimated Total Annual Burden on Respondents: $218,144 (6,416 total burden hours × $34.00 per hour).

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Donald T. Paradis, Head, Field Operations Section, Fresh Products Branch, Fruit and Vegetable Programs, Agricultural Marketing Service, U.S. Department of Agriculture, Room 2049-South Building, 1400 Independence Avenue, SW., Washington, DC 20250, Fax: 202-720-0393. All comments received will be available for public inspection during regular business hours at the same address.

All responses to this notice will be summarized and included in the request for OMB approval. All comments will become a matter of public record.

Dated: May 1, 2000.
Robert C. Keeney,
Deputy Administrator, Fruit and Vegetable Programs.

[FR Doc. 00-11417 Filed 5-5-00; 8:45 am]

BILLING CODE 3410-02-P